DEPARTMENT OF THE INTERIOR

Fish and Wildlife Service

[FWS-R3-ES-2016-N070; FXES11130300000-167-FF03E00000]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered or threatened species unless a Federal permit allows such activity. The Act requires that we invite public comment before issuing these permits.

DATES: We must receive any written comments on or before May 13, 2016.

ADDRESSES: Send written comments by U.S. mail to the Regional Director, Attn: Carlita Payne, U.S. Fish and Wildlife Service, Ecological Services, 5600 American Blvd. West, Suite 990, Bloomington, MN 55437-1458; or by electronic mail to permitsR3ES@fws.gov.

FOR FURTHER INFORMATION CONTACT: Carlita Payne, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the mailing address or email address shown in ADDRESSES.

Permit Applications

Permit Application Number: TE206781

Applicant: Ecological Specialists, Inc., O'Fallon, MO

The applicant requests a permit renewal, with amendment to take (capture and release, capture and relocate) federally listed mussels throughout the States of Arkansas, Iowa, Illinois, Indiana, Kentucky, Maryland, Michigan, Minnesota, Missouri, Nebraska, New York, Pennsylvania, Oklahoma, Ohio, South Dakota, Tennessee, Virginia, Wisconsin, and West Virginia. The following mussel species are included:

Pocketbook, Ouachita rock | Arkansia wheeleri.
Bean, rayed | Villosa fabalis.
Catspaw, white (pearlymussel) | Epioblasma obliquata perobliqua.
Higgins eye (pearlymussel) | Lampsilis higginsii.
Mapleleaf, winged | Quadrula fragosa.
Mussel, scaleshell | Leptodea leptodon.
Mussel, sheepnose | Plethobasus cyphyus.
Mussel, snuffbox | Epioblasma triquetra.
Pearlymussel, Curtis | Epioblasma florentina curtisii.
Pearlymussel, purple cat's paw | Epioblasma obliquata obliquata.
Spectaclecase (mussel) | Cumberlandia monodonta.
Acornshell, southern | Epioblasma othcaloogensis.
Bean, Cumberland (pearlymussel) | Villosa trabalis.
Blossom, green (pearlymussel) | Epioblasma torulosa gubernaculum.
Blossom, tubercled (pearlymussel) | Epioblasma torulosa torulosa.
Blossom, turgid (pearlymussel) | Epioblasma turgidula.
Blossom, yellow (pearlymussel) | Epioblasma florentina florentina.
Combshell, Cumberlandian | Epioblasma brevidens.
Combshell, upland | Epioblasma metastriata.
Elktoe, Appalachian | Alasmidonta raveneliana.
Elktoe, Cumberland | Alasmidonta atropurpurea.
Fanshell | Cyprogenia stegaria.
Fatmucket, Arkansas | Lampsilis powellii.
Kidneyshell, triangular | Ptychobranchus greenii.
Lampmussel, Alabama | Lampsilis virescens.
Lilliput, pale (pearlymussel) | Toxolasma cylindrellus.
Moccasinshell, Coosa | Medionidus parvulus.
Monkeyface, Cumberland (pearlymussel) | Quadrula intermedia.
Mucket, pink (pearlymussel) | Lampsilis abrupta.
Mussel, oyster | Epioblasma capsaeformis.
Pearlymussel, birdwing | Lemiox rimosus.
Pearlymussel, cracking | Hemistena lata.
Pearlymussel, dromedary | Dromus dromas.
Pearlymussel, littlewing | Pegias fabula.
Pigtoe, Cumberland | Pleurobema gibberum.
Pigtoe, finerayed | Fusconaia cuneolus.
Pigtoe, Georgia | Pleurobema hanleyianum.
Pigtoe, rough | Pleurobema plenum.
Pigtoe, shiny | Fusconaia cor.
Pigtoe, southern | Pleurobema georgianum.
Pimpleback, orangefoot (pearlymussel) | Plethobasus cooperianus.
Pocketbook, fat | Potamilus capax.
Pocketbook, fine-lined | Lampsilis altilis.
Pocketbook, speckled | Lampsilis streckeri.
Riffleshell, tan | Epioblasma florentina walkeri (=E. walkeri).
Ring pink (mussel) | Obovaria retusa.
Wartyback, white (pearlymussel) | Plethobasus cicatricosus.
Bean, purple | Villosa perpurpurea.
Clubshell | Pleurobema clava.
Monkeyface, Appalachian (pearlymussel) | Quadrula sparsa.
Rabbitsfoot, rough | Quadrula cylindrica strigillata.
Riffleshell, northern | Epioblasma torulosa rangiana.
Spinymussel, James | Pleurobema collina.
Wedgemussel, dwarf | Alasmidonta heterodon.
Kidneyshell, fluted | Ptychobranchus subtentum.
Mucket, Neosho | Lampsilis rafinesqueana.
Pearlymussel, slabside | Pleuronaia dolabelloides.
Rabbitsfoot | Quadrula cylindrica cylindrica.

Proposed activities are for the recovery and enhancement of survival of the species in the wild.

Permit Application Number: TE182436

Applicant: Illinois Natural History Survey, Champaign, IL

The applicant requests a permit renewal, with amendment to take (capture and release) Indiana bat (Myotis sodalis) and northern long-eared bat (Myotis septentrionalis) and take (conduct hibernacula surveys) gray bat (Myotis grisescens) throughout Illinois. Proposed activities are for the documentation of species presence and habitat use, population monitoring, and evaluation of impacts to enhance recovery and survival of the species in the wild.

Permit Application Number: TE71041B

Applicant: Iwona Kuczynska, Richmond Heights, MO

The applicant requests a permit amendment to take (capture and release) American burying beetle (Nicrophorus americanus) in the States of Arkansas, Kansas, Missouri, Nebraska, Oklahoma, South Dakota, and Texas. Proposed activities are for the recovery and enhancement of survival of the species in the wild.

Permit Application Number: TE38821A

Applicant: Stantec Consulting Services. Louisville, KY

The applicant requests a permit renewal, with amendment to take (capture and release) Indiana bat (Myotis sodalis), gray bat (Myotis grisescens), northern long-eared bat (Myotis septentrionalis),, Virginia big-eared bat (Corynorhinus townsendii virginianus), Ozark big-eared bat (Corynorhinus townsendii ingens), copperbelly watersnake (Nerodia erythrogaster neglecta), and federally listed mussels and fish in the States of Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, and Wisconsin. The following mussel and fish species are included:

Bean, rayed | Villosa fabalis.
Higgins eye (pearlymussel) | Lampsilis higginsii.
Mussel, sheepnose | Plethobasus cyphyus.
Mussel, snuffbox | Epioblasma triquetra.
Purple cat's paw pearlymussel | Epioblasma obliquata obliquata.
Spectaclecase (mussel) | Cumberlandia monodonta.
Bean, Cumberland (pearlymussel) | Villosa trabalis.
Combshell, Cumberlandian | Epioblasma brevidens.
Fanshell | Cyprogenia stegaria.
Mucket, pink (pearlymussel) | Lampsilis abrupta.
Mussel, oyster | Epioblasma capsaeformis.
Pearlymussel, birdwing | Lemiox rimosus.
Pearlymussel, cracking | Hemistena lata.
Pearlymussel, dromedary | Dromus dromas.
Pearlymussel, littlewing | Pegias fabula.
Pigtoe, finerayed | Fusconaia cuneolus.
Pigtoe, rough | Pleurobema plenum.
Pigtoe, shiny | Fusconaia cor.
Pimpleback, orangefoot (pearlymussel) | Plethobasus cooperianus.
Pocketbook, fat | Potamilus capax.
Riffleshell, tan | Epioblasma florentina walkeri (=E. walkeri).
Ring pink (mussel) | Obovaria retusa.
Wartyback, white (pearlymussel) | Plethobasus cicatricosus.
Bean, purple | Villosa perpurpurea.
Clubshell | Pleurobema clava.
Rabbitsfoot, rough | Quadrula cylindrica strigillata.
Riffleshell, northern | Epioblasma torulosa rangiana.
Kidneyshell, fluted | Ptychobranchus subtentum.
Pearlymussel, slabside | Pleuronaia dolabelloides.
Rabbitsfoot | Quadrula cylindrica cylindrica.
Dace, blackside | Phoxinus cumberlandensis.
Darter, duskytail | Etheostoma percnurum.
Darter, Kentucky arrow | Etheostoma spilotum.
Darter, relict | Etheostoma chienense.
Shiner, palezone | Notropis albizonatus.
Sturgeon, pallid | Scaphirhynchus albus.

Proposed activities are for the recovery and enhancement of survival of the species in the wild.

Permit Application Number: TE85229B

Applicant: Jeffrey Stone, Greenville, IL

The applicant requests a permit to take (capture and release) American burying beetle (Nicrophorus americanus) in the States of Arkansas, Kansas, Missouri, Nebraska, Oklahoma, South Dakota, and Texas. Proposed activities are for the recovery and enhancement of survival of the species in the wild.

Permit Application Number: TE24334B

Applicant: Shaylyn Hatch, Covington, PA

The applicant requests a permit renewal, with amendment to take (capture and release, and radio-tag) Indiana bat (Myotis sodalis), gray bat (Myotis grisescens), and northern long-eared bat (Myotis septentrionalis) in the States of Arkansas, Illinois, Indiana, Kentucky, Michigan, Missouri, New Jersey, New York, Ohio, Pennsylvania, Tennessee, Virginia, West Virginia, and Wisconsin. Proposed activities are for the recovery and enhancement of survival of the species in the wild.

Permit Application Number: TE135297

Applicant: Saint Louis Zoo, St. Louis, MO

The applicant requests a permit renewal to take (capture and release, capture and hold) American burying beetle (Nicrophorus americanus) at the Zoo facility in St. Louis, MO, and in the States of Arkansas and Missouri. Proposed activities are for the propagation and enhancement of survival of the species in the wild.

Permit Application Number: TE02378A

Applicant: U.S. Army Corps of Engineers, St. Paul District, St. Paul, MN

The applicant requests a permit renewal to take (capture and release) Higgins eye (pearlymussel) (Lampsilis higginsii), scaleshell mussel (Leptodea leptodon), snuffbox mussel (Epioblasma triquetra), sheepnose mussel (Plethobasus cyphyus), spectaclecase (mussel) (Cumberlandia monodonta), and winged mapleleaf (Quadrula fragosa) in the States of Illinois, Iowa, Minnesota, Missouri, and Wisconsin. Proposed activities are for the recovery and enhancement of survival of the species in the wild.

Permit Application Number: TE03450B

Applicant: Erin Basiger, Cloverdale, IN

The applicant requests a permit renewal, with amendment to take (capture and release) Indiana bat (Myotis sodalis), gray bat (Myotis griescens), and northern long-eared bat (Myotis septentrionalis) in the States of Alabama, Arkansas, Connecticut, Delaware, Georgia, Illinois, Indiana, Iowa, Kentucky, Maryland, Massachusetts, Michigan, Mississippi, Missouri, New Hampshire, New Jersey, New York, North Carolina, Ohio, Pennsylvania, Rhode Island, South Carolina, Tennessee, Vermont, Virginia, West Virginia, and Wisconsin. Proposed activities are for the recovery and enhancement of survival of the species in the wild.

Permit Application Number: TE89557A

Applicant: TRC Companies, Inc., Cleveland, OH

The applicant requests a permit renewal, with amendment to take (capture and release) Higgins eye (pearlymussel) (Lampsilis higginsii), pink mucket (pearlymussel) (Lampsilis abrupta), speckeled pocketbook (Lampsilis streckeri), Neosho mucket (Lampsilis rafinesqueana), scaleshell mussel (Leptodea leptodon), snuffbox mussel (Epioblasma triquetra), northern riffleshell (Epioblasma torulosa rangiana), purple cat's paw pearlymussel (Epioblasma obliquata obliquata), white catspaw (pearlymussel) (Epioblasma obliquata perobliqua), sheepnose mussel (Plethobasus cyphyus), orangefoot pimpleback (pearlymussel) (Plethobasus cooperianus), spectaclecase (mussel) (Cumberlandia monodonta), clubshell (Pleurobema clava), fanshell (Cyprogenia stegaria), fat pocketbook (Potamilus capax), rabbitsfoot (Quadrula cylindrica cylindrica), and rayed bean (Villosa fabalis) in the States of Alabama, Arkansas, Illinois, Indiana, Iowa, Kentucky, Michigan, Minnesota, Mississippi, Missouri, Ohio, Oklahoma, Tennessee, and Wisconsin. Proposed activities are for the recovery and enhancement of survival of the species in the wild.

Permit Application Number: TE06873B

Applicant: Andrew Carson, Cincinnati, OH

The applicant requests a permit renewal, with amendment to take (capture and release) Indiana bat (Myotis sodalis), gray bat (Myotis griescens), northern long-eared bat (Myotis septentrionalis), and Ozark big-eared bat (Corynorhinus townsendii ingens) in the District of Columbia and in the States of Alabama, Arkansas, Connecticut, Delaware, Florida, Georgia, Illinois, Indiana, Iowa, Kansas, Kentucky, Maine, Maryland, Massachusetts, Michigan, Minnesota, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming. Proposed activities are for the recovery and enhancement of survival of the species in the wild.

Permit Application Number: TE07358A

Applicant: Ryan Slack, Indianapolis, IN

The applicant requests a permit amendment to take (capture and release, trap, and radio-tag) Indiana bat (Myotis sodalis), gray bat (Myotis griescens), northern long-eared bat (Myotis septentrionalis), Virginia big-eared bat (Corynorhinus townsendii virginianus), and Ozark big-eared bat (Corynorhinus townsendii ingens) in the District of Columbia and in the States of Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming. Proposed activities are for the recovery and enhancement of survival of the species in the wild.

Permit Application Number: TE85232B

Applicant: Zachary Kaiser, Ethridge, MT

The applicant requests a permit amendment to take (capture and release, and radio-tag) Indiana bat (Myotis sodalis), gray bat (Myotis griescens), and northern long-eared bat (Myotis septentrionalis in the States of Alabama, Arkansas, Connecticut, Florida, Georgia, Illinois, Indiana, Iowa, Kansas, Kentucky, Maine, Maryland, Massachusetts, Michigan, Minnesota, Mississippi, Missouri, Nebraska, New Hampshire, New Jersey, New York, North Carolina, North Dakota, Ohio, Oklahoma, Pennsylvania, Rhode Island, South Carolina, South Dakota, Tennessee, Vermont, Virginia, West Virginia, Wisconsin, and Wyoming. Proposed activities are for the recovery and enhancement of survival of the species in the wild.

Permit Application Number: TE85227B

Applicant: Jacquelyn Dearborn, Columbia, MO

The applicant requests a permit amendment to take (capture and release, and radio-tag) Indiana bat (Myotis sodalis), gray bat (Myotis griescens), northern long-eared bat (Myotis septentrionalis), and Ozark big-eared bat (Corynorhinus townsendii ingens) in the States of Illinois and Missouri. Proposed activities are for the recovery and enhancement of survival of the species in the wild.

Permit Application Number: TE85228B

Applicant: Eric Schroder, Fairmont, WV

The applicant requests a permit amendment to take (capture and release, trap, and radio-tag) Indiana bat (Myotis sodalis), gray bat (Myotis griescens), and northern long-eared bat (Myotis septentrionalis) in the States of Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, Tennessee, Vermont, Virginia, West Virginia, Wisconsin, and Wyoming. Proposed activities are for the recovery and enhancement of survival of the species in the wild.

Permit Application Number: TE43605A

Applicant: Daniel Cox, Streator, IL

The applicant requests a permit renewal, with amendment to take (capture and release) Indiana bat (Myotis sodalis) and northern long-eared bat (Myotis septentrionalis in the States of Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming. Proposed activities are for the recovery and enhancement of survival of the species in the wild.

Permit Application Number: TE48832A

Applicant: Kevin Roe, Iowa State University, Ames, IA

The applicant requests a permit renewal, with amendment to take (capture and release, sample, and collect vouchers) scaleshell mussel (Leptodea leptodon), pink mucket (pearlymussel) (Lampsilis abrupta), and Topeka shiner (Notropis topeka) in the States of Iowa, Kansas, Minnesota, Missouri, and South Dakota. Proposed activities are for the recovery and enhancement of survival of the species in the wild.

Permit Application Number: TE088720

Applicant: George Watters, Ohio State University, Columbus, OH

The applicant requests a permit renewal to take (capture, sample and release, propagate and release) federally listed mussels in the States of Illinois, Indiana, Kentucky, Michigan, Ohio, Pennsylvania, and West Virginia. The following mussel species are included:

Bean, rayed | Villosa fabalis
Mussel, sheepnose | Plethobasus cyphyus
Mussel, snuffbox | Epioblasma triquetra
Purple cat's paw pearlymussel | Epioblasma obliquata obliquata
Spectaclecase (mussel) | Cumberlandia monodonta
Bean, Cumberland (pearlymussel) | Villosa trabalis
Fanshell | Cyprogenia stegaria
Mucket, pink (pearlymussel) | Lampsilis abrupta
Pearlymussel, cracking | Hemistena lata
Pigtoe, rough | Pleurobema plenum
Pimpleback, orangefoot (pearlymussel) | Plethobasus cooperianus
Pocketbook, fat | Potamilus capax
Ring pink (mussel) | Obovaria retusa
Wartyback, white (pearlymussel) | Plethobasus cicatricosus
Clubshell | Pleurobema clava
Riffleshell, northern | Epioblasma torulosa rangiana
Catspaw, white (pearlymussel) | Epioblasma obliquata perobliqua
Mapleleaf, winged | Quadrula fragosa
Threeridge, fat | Amblema neislerii
Slabshell, Chipola | Elliptio chipolaensis
Bankclimber, purple | Elliptoideus sloatianus
Pocketbook, shinyrayed | Lampsilis subangulata
Moccasinshell, Gulf | Medionidus penicillatus
Pigtoe, oval | Pleurobema pyriforme

Proposed activities are for the recovery and enhancement of survival of the species in the wild.

Permit Application Number: TE31310A

Applicant: Minnesota Pollution Control Agency, St. Paul, MN

The applicant requests a permit renewal to take (capture and release) Topeka shiner (Notropis topeka) within the State of Minnesota. Proposed activities are for the recovery and enhancement of survival of the species in the wild.

Permit Application Number: TE130900

Applicant: EnviroScience, Inc., Stow, OH

The applicant requests a permit renewal to take (capture and release) federally listed mussels and fish in the States of Arkansas, Florida, Georgia, Illinois, Indiana, Iowa, Kentucky, Michigan, Minnesota, Missouri, Ohio, Tennessee, and Wisconsin. The following mussel and fish species are included:

Pocketbook, Ouachita rock | Arkansia wheeleri.
Bean, rayed | Villosa fabalis.
Catspaw, white (pearlymussel) | Epioblasma obliquata perobliqua.
Higgins eye (pearlymussel) | Lampsilis higginsii.
Mapleleaf, winged | Quadrula fragosa.
Mussel, scaleshell | Leptodea leptodon.
Mussel, sheepnose | Plethobasus cyphyus.
Mussel, snuffbox | Epioblasma triquetra.
Pearlymussel, Curtis | Epioblasma florentina curtisii.
Purple cat's paw pearlymussel | Epioblasma obliquata obliquata.
Spectaclecase (mussel) | Cumberlandia monodonta.
Acornshell, southern | Epioblasma othcaloogensis
Bean, Cumberland (pearlymussel) | Villosa trabalis.
Combshell, Cumberlandian | Epioblasma brevidens.
Combshell, upland | Epioblasma metastriata.
Elktoe, Appalachian | Alasmidonta raveneliana.
Elktoe, Cumberland | Alasmidonta atropurpurea.
Fanshell | Cyprogenia stegaria.
fatmucket, Arkansas | Lampsilis powellii.
Kidneyshell, triangular | Ptychobranchus greenii.
Lampmussel, Alabama | Lampsilis virescens.
Lilliput, pale (pearlymussel) | Toxolasma cylindrellus.
Moccasinshell, Coosa | Medionidus parvulus.
Monkeyface, Cumberland (pearlymussel) | Quadrula intermedia.
Mucket, pink (pearlymussel) | Lampsilis abrupta.
Mussel, oyster | Epioblasma capsaeformis.
Pearlymussel, birdwing | Lemiox rimosus.
Pearlymussel, cracking | Hemistena lata.
Pearlymussel, dromedary | Dromus dromas.
Pearlymussel, littlewing | Pegias fabula.
Pigtoe, Cumberland | Pleurobema gibberum.
Pigtoe, finerayed | Fusconaia cuneolus.
Pigtoe, Georgia | Pleurobema hanleyianum.
Pigtoe, rough | Pleurobema plenum.
Pigtoe, shiny | Fusconaia cor.
Pigtoe, southern | Pleurobema georgianum.
Pimpleback, orangefoot (pearlymussel) | Plethobasus cooperianus.
Pocketbook, fat | Potamilus capax.
Pocketbook, fine-lined | Lampsilis altilis.
Riffleshell, tan | Epioblasma florentina walkeri (=E. walkeri).
Ring pink (mussel) | Obovaria retusa.
Wartyback, white (pearlymussel) | Plethobasus cicatricosus.
Bean, purple | Villosa perpurpurea.
Clubshell | Pleurobema clava.
Monkeyface, Appalachian (pearlymussel) | Quadrula sparsa.
Rabbitsfoot, rough | Quadrula cylindrica strigillata.
Riffleshell, northern | Epioblasma torulosa rangiana.
Spinymussel, James | Pleurobema collina.
Wedgemussel, dwarf | Alasmidonta heterodon.
Kidneyshell, fluted | Ptychobranchus subtentum.
Pearlymussel, slabside | Pleuronaia dolabelloides.
Rabbitsfoot | Quadrula cylindrica cylindrica.
Threeridge, fat | Amblema neislerii.
Slabshell, Chipola | Elliptio chipolaensis.
Bankclimber, purple | Elliptoideus sloatianus.
Pocketbook, shinyrayed | Lampsilis subangulata.
Moccasinshell, Gulf | Medionidus penicillatus.
Pigtoe, oval | Pleurobema pyriforme.
Bean, Choctaw | Villosa choctawensis.
Pigtoe, fuzzy | Pleurobema strodeanum.
Pigtoe, narrow | Fusconaia escambia.
Moccasinshell, Alabama | Medionidus acutissimus.
Moccasinshell, Ochlockonee | Medionidus simpsonianus.
Clubshell, ovate | Pleurobema perovatum.
Ebonyshell, round | Fusconaia rotulata.
Clubshell, southern | Pleurobema decisum.
Kidneyshell, southern | Ptychobranchus jonesi.
Pearlshell, Alabama | Margaritifera marrianae.
Pigtoe, southern | Pleurobema georgianum.
Pigtoe, tapered | Fusconia burkei.
Sturgeon, shortnose | Acipenser brevirostrum.
Shiner, blue | Cyprinella caerulea.
Darter, Cherokee | Etheostoma scotti.
Darter, Etowah | Etheostoma etowahae.
Darter, amber | Percina antesella.
Darter, goldline | Percina aurolineata.
Logperch, Conasauga | Percina jenkinsi.
Darter, snail | Percina tanasi.

Proposed activities are for the recovery and enhancement of survival of the species in the wild.

Permit Application Number: TE02373A

Applicant: Environmental Solutions and Innovations, Inc., Cincinnati, OH

The applicant requests a permit renewal, with amendment to take (capture and release) American burying beetle (Nicrophorus americanus); take (capture and release, handle, and radio-tag) Indiana bat (Myotis sodalis), gray bat (Myotis griescens), northern long-eared bat (Myotis septentrionalis), Virginia big-eared bat (Corynorhinus townsendii virginianus), and Ozark big-eared bat (Corynorhinus townsendii ingens); take (survey and identify) running buffalo clover (Trifolium stoloniferum) and northeastern bulrush (Scirpus ancistrochaetus); and take (capture and release) 56 federally listed mussel species and 5 federally listed fish species in the territories of Puerto Rico and the U.S. Virgin Islands, and in the States of Arkansas, Kansas, Missouri, Nebraska, Ohio, Oklahoma, Rhode Island, and Texas. Proposed activities are for the recovery and enhancement of survival of the species in the wild.

Permit Application Number: TE89558A

Applicant: Shannon Romeling, Ranchos de Taos, NM

The applicant requests a permit renewal, with amendment to take (capture and release, handle, and radio-tag) Indiana bat (Myotis sodalis), gray bat (Myotis griescens), northern long-eared bat (Myotis septentrionalis), Virginia big-eared bat (Corynorhinus townsendii virginianus), and Ozark big-eared bat (Corynorhinus townsendii ingens) in the District of Columbia and in the States of Alabama, Arkansas, Connecticut, Delaware, Florida, Georgia, Illinois, Indiana, Iowa, Kansas, Kentucky, Louisiana, Maine, Maryland, Massachusetts, Michigan, Minnesota, Mississippi, Missouri, Nebraska, New Hampshire, New Jersey, New York, North Carolina, North Dakota, Ohio, Oklahoma, Pennsylvania, Rhode Island, South Carolina, South Dakota, Tennessee, Texas, Vermont, Virginia, West Virginia, Wisconsin, and Wyoming. Proposed activities are for the recovery and enhancement of survival of the species in the wild.

Permit Application Number: TE62311A

Applicant: Mary Gilmore, Stow, OH

The applicant requests a permit renewal, with amendment to take (capture and release, handle, band, and radio-tag) Indiana bat (Myotis sodalis) and northern long-eared bat (Myotis septentrionalis) in the States of Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming. Proposed activities are for the recovery and enhancement of survival of the species in the wild.

Permit Application Number: TE08603A

Applicant: Michelle Malcosky, Hudson, OH

The applicant requests a permit renewal, with amendment to take (capture and release, handle, band, and radio-tag) Indiana bat (Myotis sodalis) and northern long-eared bat (Myotis septentrionalis) in the States of Illinois, Indiana, Kentucky, Michigan, Missouri, Pennsylvania, and West Virginia. Proposed activities are for the recovery and enhancement of survival of the species in the wild.

Permit Application Number: TE206783

Applicant: Marlo Perdicas, Marshallville, OH

The applicant requests a permit renewal, with amendment to take (capture and release, handle, and radio-tag) Indiana bat (Myotis sodalis), gray bat (Myotis griescens), and northern long-eared bat (Myotis septentrionalis) in the States of Alabama, Arkansas, Connecticut, Florida, Georgia, Illinois, Indiana, Iowa, Kansas, Kentucky, Maryland, Michigan, Mississippi, Missouri, New Jersey, New York, North Carolina, Ohio, Oklahoma, Pennsylvania, Tennessee, Vermont, Virginia, West Virginia, and Wisconsin. Proposed activities are for the recovery and enhancement of survival of the species in the wild.

Permit Application Number: TE38835A

Applicant: Land Conservancy of West Michigan, Grand Rapids, MI

The applicant requests a permit renewal, with amendment to take (presence and absence surveys, habitat management, and prescribed fire) Karner blue butterfly (Lycaeides Melissa samuelis) in Kent County, Michigan. Proposed activities are for the recovery and enhancement of survival of the species in the wild.

Permit Application Number: TE71718A

Applicant: Bradley Steffen, Cincinnati, OH

The applicant requests a permit renewal, with amendment to take (capture and release, handle, radio-tag, trap, collect hair and tissue, and enter hibernacula) Indiana bat (Myotis sodalis), gray bat (Myotis griescens), northern long-eared bat (Myotis septentrionalis), and Virginia big-eared bat (Corynorhinus townsendii virginianus) in the District of Columbia and in the States of Alabama, Arkansas, Connecticut, Delaware, Florida, Georgia, Illinois, Indiana, Iowa, Kansas, Kentucky, Louisiana, Maine, Maryland, Massachusetts, Michigan, Minnesota, Mississippi, Missouri, Nebraska, New Hampshire, New Jersey, New York, North Carolina, North Dakota, Ohio, Oklahoma, Pennsylvania, Rhode Island, South Carolina, South Dakota, Tennessee, Vermont, Virginia, West Virginia, Wisconsin, and Wyoming. Proposed activities are for the recovery and enhancement of survival of the species in the wild.

Permit Application Number: TE85231B

Applicant: Kalamazoo Nature Center, Kalamazoo, MI

The applicant requests a permit to take (capture, hold, propagate, and release) Mitchell's satyr butterfly (Neonympha mitchelli mitchelli) in the State of Michigan. Proposed activities are for the recovery and enhancement of survival of the species in the wild.

Permit Application Number: TE85233B

Applicant: Shelly Colatskie, Cedar Hill, MO

The applicant requests a permit to take (capture and release, handle, radio-tag, and enter hibernacula) Indiana bat (Myotis sodalis), gray bat (Myotis griescens), northern long-eared bat (Myotis septentrionalis), and Ozark big-eared bat (Corynorhinus townsendii ingens); take (capture and release) Ozark hellbender (Cryptobrachus alleganiensis bishopi); and take (capture and release, and harass by survey) Ozark cavefish (Amblyopsis rosae), Grotto sculpin (Cottus specus), and Tumbling Creek Cavesnail (Antrobia culveri) throughout the range of the species. Proposed activities are for the recovery and enhancement of survival of the species in the wild.

Permit Application Number: TE92978B

Applicant: Helms and Associates, Bellevue, IA

The applicant requests a permit to take (capture and release) Topeka shiner (Notropis topeka), Higgins eye (pearlymussel) (Lampsilis higginsii), pink mucket (pearlymussel) (Lampsilis abrupta), scaleshell mussel (Leptodea leptodon), snuffbox mussel (Epioblasma triquetra), northern riffleshell (Epioblasma torulosa rangiana), purple cat's paw pearlymussel (Epioblasma obliquata obliquata), white catspaw (pearlymussel) (Epioblasma obliquata perobliqua), sheepnose mussel (Plethobasus cyphyus), orangefoot pimpleback (pearlymussel) (Plethobasus cooperianus), spectaclecase (mussel) (Cumberlandia monodonta), clubshell (Pleurobema clava), fanshell (Cyprogenia stegaria), fat pocketbook (Potamilus capax), winged mapleleaf (Quadrula fragosa), rough pigtoe (Pleurobema plenum) and rayed bean (Villosa fabalis) in the States of Illinois, Iowa, Indiana, Michigan, Minnesota, Missouri, Ohio, South Dakota, and Wisconsin. Proposed activities are for the recovery and enhancement of survival of the species in the wild.

Permit Application Number: TE042946

Applicant: James Garvey, Southern Illinois University, Carbondale, IL

The applicant requests a permit renewal, with amendment to take (capture and release) pallid sturgeon (Scaphirhynchus albus) in the States of Illinois and Missouri. Proposed activities are for the recovery and enhancement of survival of the species in the wild.

Request for Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: April 7, 2016.
Lynn M. Lewis,
Assistant Regional Director, Ecological Services, Midwest Region.

[FR Doc. 2016-08459 Filed 4-12-16; 8:45 am]

BILLING CODE 4333-15-P